DEPARTMENT OF HEALTH AND HUMAN SERVICES

Indian Health Service

Request for Public Comment: 30-Day Notice; Proposed Collection: IHS Urban Indian Health Program Common Reporting Requirements

SUMMARY: In compliance with Section 3507(a)(1)(D) of the Paperwork Reduction Act of 1996, for opportunity for public comment on proposed information collection projects, the Indian Health Service (IHS) has submitted to the Office of Management and Budget (OMB) a request to review and approve the collection of information listed below. This proposed collection of information was published in the Federal Register (63 FR 11688) on January 24, 2000 and allowed 60 days for public comment. No public comment was received in response to the notice. The purpose of this notice is to allow 30 days for public comment to be submitted to OMB.

Proposed Collection: Title: 09-17-0007, “IHS Urban Indian Health Program Common Reporting Requirements.”

Type of Information Collection Request: Three year reinstatement, without change, of previously approved information collection, 0917-0007, “IHS Urban Indian Health Program Common Reporting Requirements” for which approval expired June 30, 2000.

Form Number: The report formats are contained in IHS instruction manual, “Urban Indian Health Programs Common Reporting Requirements.” The reporting formats have been computerized for electronic data submission.

Need and Use of Information Collection: IHS contracts with urban Indian organizations to: Access and identify health services available to urban Indians; provide health education and health services to urban Indians; identify the unmet health needs of urban Indians; and, make recommendations on methods to improve health services provided to urban Indians. The information is collected annually and used to: monitor contractor performance; prepare budget reports; allocate resources; and, access and evaluate the urban Indian health contract programs.

Affected Public: Individuals or households, not-for-profit institutions and State, Local or Tribal Government.

Type of Respondents: Urban Indian health care organizations. The table below provides: Types of data collection instruments, estimated number of respondents, number of responses per respondent, average burden hour per response, and total annual burden hour.

Data collection instrument | Estimated number of respondents | Responses per respondent | Annual number of responses | Average burden hour per response* | Total annual burden hours
Face Sheet | 34 | 1 | 34 | 0.50 (30 min) | 17.0
Table 1 | 34 | 1 | 34 | 1.50 (90 min) | 51.0
Table 2 | 34 | 1 | 34 | 0.57 (34 min) | 19.0
Table 3 | 34 | 1 | 34 | 1.69 (101 min) | 57.0
Table 4 | **23 | 1 | 23 | 0.38 (23 min) | 9.0
Table 5 | 34 | 1 | 34 | 1.50 (90 min) | 51.0
Table 6 | 34 | 1 | 34 | 1.50 (90 min) | 51.0
Table 7 | 34 | 1 | 34 | 0.75 (45 min) | 26.0
Table 8 | 34 | 1 | 34 | 0.94 (56 min) | 32.0
Total | 261 | 1 | 261 |  | 313.0
For ease of understanding, burden hours are also provided in actual minutes.
**Excludes urban Indian health projects with no medical component.

There are no Capital Costs, Operating Costs and/or Maintenance Costs required for this collection of information.

REQUEST FOR COMMENTS: Your written comments and/or suggestions are invited on one or more of the following points: (a) Whether the information collection activity is necessary to carry out an agency function; (b) whether the IHS processes the information collected in a useful and timely fashion; (c) the accuracy of the public burden estimate (the estimated amount of time needed for individual respondents to provide the requested information); (d) whether the methodology and assumptions used to determine the estimates are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time, to: Office of Management and Budget, Office of Regulatory Affairs, New Executive Office Building, Room 10235, Washington, DC 20503, Attention: Desk Officer for IHS.

To request more information on the proposed collection or to obtain a copy of the data collection instrument(s) and/or instructions(s), contact: Mr. Lance Hodahkwen, Sr., M.P.H., IHS Reports Clearance Officer, 12300 Twinbrook Parkway, Suite 450, Rockville, MD 20852.1601, or call non-toll free (301) 443-5938 or send via facsimile to (301) 443-2316, or send your E-mail requests, comments, and return address to: lhodahkw@hqe.ihs.gov.

Comments Due Date: Comments regarding this information collection are best assured of having their full effect if received on or before November 20, 2000.

Dated: October 13, 2000.
Michael H. Trujillo,
Assistance Surgeon General Director.

[FR Doc. 00-26896 Filed 10-18-00; 8:45 am]

BILLING CODE 4160-16-M